DEPARTMENT OF ENERGY

Office of Energy Efficiency and Renewable Energy

National Energy Policy; Announcement of Public Meetings

AGENCY: Office of Energy Efficiency and Renewable Energy, Department of Energy.

ACTION: Notice of public meetings and request for comments, correction.

On June 11, 2001, the Department of Energy published a notice of public meetings and request for comments, 66 FR 31224-31226. In that notice, the June 21 public meeting, in Philadelphia, Pennsylvania, was scheduled from 9:00 a.m. to 9:00 p.m., at the Myerson Auditorium, 210 South 34th Street, Philadelphia, PA. Today's notice is announcing that this meeting will take place at the Sheraton Rittenhouse Square Hotel, 227 South 18th Street, Philadelphia, PA, from 9:00 a.m. to 9:00 p.m., on June 21, 2001.

Issued in Washington, DC on June 15, 2001.
John Sullivan,
Acting Deputy Assistant Secretary, Office of Planning, Budget, and Management, Office of Energy Efficiency and Renewable Energy.

[FR Doc. 01-15483 Filed 6-15-01; 11:28 am]

BILLING CODE 6450-01-P